DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 11, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Housing Service

Title: Rural Rental Housing Program, 7 CFR part 3560.

OMB Control Number: 0575-0189.

Summary of Collection: The Rural Housing Service is revising this information collection to include a new form. The new form titled “Replacement Reserve Intercreditor Agreement” (ICA) is a supplement to the existing section 515 Subordination Agreement. The ICA form will be used between the section 515 RRH Borrower/Owner and the section 538 Lender to establish control and guidance on how the Reserve Account will be handled in a joint transaction. The ICA will add an additional 24 responses and 4 hours to the collection's total burden.

Need and Use of the Information: Information is completed by developers and potential borrowers seeking approval of rural rental housing loans with the assistance of professionals such as attorneys, architects, and contractors and the operation and management of the MFH properties in an affordable decent, safe and sanitary manner. The forms and information provide the basis for making determinations of eligibility and the need and feasibility of the proposed housing.

The information provides the basis for determining that rents charged are appropriate, the housing is well-maintained, and proper priority is given to those tenants eligible for occupancy. Information is collected to assure compliance with the terms and conditions of loan, grant and/or subsidy agreements.

Description of Respondents: Business or other for profit; Not-for-profit institutions.

Number of Respondents: 589,500.

Frequency of Responses: Recordkeeping; Reporting: On Occasion, Annually.

Total Burden Hours: 1,072,246.

Levi S. Harrell,
Departmental Information Collection Clearance Officer.

[FR Doc. 2023-24792 Filed 11-8-23; 8:45 am]

BILLING CODE 3410-XV-P